DEPARTMENT OF HEALTH AND HUMAN SERVICES

Centers for Medicare & Medicaid Services

[Document Identifier: CMS-484 and CMS-846-849, 854, 10125, 10126, 10269 and CMS-R-21]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Durable Medical Equipment Regional Carrier, Certificate of Medical Necessity for Oxygen and Supporting Regulations in 42 CFR 410.38 and 424.5; Use: The oxygen certificate of medical necessity (CMN) collects information required to help determine the medical necessity of home oxygen therapy for Medicare beneficiaries. CMS requires CMNs where items may present a vulnerability to the Medicare program. Each claim for these items must have an associated CMN for the beneficiary. In order to determine if a beneficiary needs home oxygen therapy, a qualifying blood gas study must be performed and it must comply with the DMERCs Oxygen Medical Policy on the standards for conducting the test and also be covered under Medicare Part B. A beneficiary must be seen and evaluated by the treating physician within specific timeframes as indicated by the Oxygen Medical Policy in order to complete an Initial CMN Certification, a Recertification CMN and a Revised CMN Certification. Form Number: CMS-484 (OMB# 0938-0534); Frequency: Occasionally; Affected Public: Business or other for-profits; Number of Respondents: 15,000; Total Annual Responses: 1,630,000; Total Annual Hours: 326,000.

2. Type of Information Collection Request: Revision of a currently approved collection; Title of Information Collection: Durable Medical Equipment Medicare Administrative Contractors (MAC), Certificates of Medical Necessity; Use: The certificate of medical necessity (CMN) collects information required to help determine the medical necessity of certain items. CMS requires CMNs where there may be a vulnerability to the Medicare program. Each initial claim for these items must have an associated CMN for the beneficiary. Suppliers (those who bill for the items) complete the administrative information (e.g., patient's name and address, items ordered, etc.) on each CMN. The 1994 Amendments to the Social Security Act require that the supplier also provide a narrative description of the items ordered and all related accessories, their charge for each of these items, and the Medicare fee schedule allowance (where applicable). The supplier then sends the CMN to the treating physician or other clinicians (e.g., physician assistant, LPN, etc.) who completes questions pertaining to the beneficiary's medical condition and signs the CMN. The physician or other clinician returns the CMN to the supplier who has the option to maintain a copy and then submits the CMN (paper or electronic) to CMS, along with a claim for reimbursement. Form Number: CMS-846-849, 854, 10125, 10126, 10269 (OMB# 0938-0679); Frequency: Occasionally; Affected Public: Business or other for-profit and Not-for-profit institutions; Number of Respondents: 59,200; Total Annual Responses: 6,480,000; Total Annual Hours: 1,296,000.

3. Type of Information Collection Request: Extension without change of a currently approved collection; Title of Information Collection: Withholding Medicare Payments to Recover Medicaid Overpayments and Supporting Regulations in 42 CFR 44.31; Use: Overpayments may occur in either the Medicare and Medicaid program, at times resulting in a situation where an institution or person that provides services owes a repayment to one program while still receiving reimbursement from the other. Certain Medicaid providers which are subject to offsets for the collection of Medicaid overpayments may terminate or substantially reduce their participation in Medicaid, leaving the State Medicaid Agency unable to recover the amounts due. These information collection requirements give CMS the authority to recover Medicaid overpayments by offsetting payments due to a provider under the program. Form Number: CMS-R-21 (OMB# 0938-0287); Frequency: On occasion; Affected Public: State, Local or Tribal Governments; Number of Respondents: 54; Total Annual Responses: 27; Total Annual Hours: 81.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on October 27, 2008: OMB, Office of Information and Regulatory Affairs, Attention: CMS Desk Officer, New Executive Office Building, Room 10235, Washington, DC 20503, Fax Number: (202) 395-6974.

Dated: September 18, 2008.
Michelle Shortt,
Director, Regulations Development Group, Office of Strategic Operations and Regulatory Affairs.

[FR Doc. E8-22582 Filed 9-25-08; 8:45 am]

BILLING CODE 4120-01-P